DEPARTMENT OF COMMERCE

National Oceanic and Atmospheric Administration

RIN 0648-XD797

Marine Mammals; File No. 19293

AGENCY: National Marine Fisheries Service (NMFS), National Oceanic and Atmospheric Administration (NOAA), Commerce.

ACTION: Notice; issuance of permit.

SUMMARY: Notice is hereby given that a permit has been issued to Dolphin World Productions Ltd, 59 Cotham Hill, Bristol, BS6 6JR, United Kingdom to conduct commercial or educational photography on bottlenose dolphins (Tursiops truncatus).

DATES: Written, telefaxed, or email comments must be received on or before August 10, 2015.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Hapeman, (301) 427-8401.

SUPPLEMENTARY INFORMATION: The subject permit is requested under the authority of the Marine Mammal Protection Act of 1972, as amended (MMPA; 16 U.S.C. 1361 et seq.), and the regulations governing the taking and importing of marine mammals (50 CFR part 216).

On March 2, 2015, notice was published in the Federal Register (80 FR 11177) that a request for a permit to commercial or educational photography on bottlenose dolphins (Tursiops truncatus) in the Florida Bay had been submitted by the above-named applicant. The requested permit has been issued under the authority of the Marine Mammal Protection Act of 1972, as amended (16 U.S.C. 1361 et seq.) and the regulations governing the taking and importing of marine mammals (50 CFR part 216).

The permit authorizes filming and photography of the Florida Bay stock of bottlenose dolphins for purposes of a documentary film. The activities fall under the definition of level B harassment via aircraft and from a small 20 ft vessel. Filming would take place for approximately 30 days between May 20, 2015 and September 1, 2015. The permit is valid through September 30, 2015.

In compliance with the National Environmental Policy Act of 1969 (42 U.S.C. 4321 et seq.), a final determination has been made that the activity proposed is categorically excluded from the requirement to prepare an environmental assessment or environmental impact statement.

Dated: June 26, 2015.
Julia Harrison,
Chief, Permits and Conservation Division, Office of Protected Resources, National Marine Fisheries Service.

[FR Doc. 2015-16780 Filed 7-8-15; 8:45 am]

BILLING CODE 3510-22-P